DEPARTMENT OF COMMERCE

Foreign-Trade Zones Board

[B-15-2017]

Foreign-Trade Zone (FTZ) 265—Conroe, Texas; Notification of Proposed Production Activity; Bauer Manufacturing LLC dba NEORig (Stationary Oil/Gas Drilling Rigs); Conroe, Texas

The City of Conroe, Texas, grantee of FTZ 265, submitted a notification of proposed production activity to the FTZ Board on behalf of Bauer Manufacturing LLC dba NEORig (Bauer), located in Conroe, Texas. The notification conforming to the requirements of the regulations of the FTZ Board (15 CFR 400.22) was received on February 24, 2017.

Bauer already has authority to produce pile drivers and leads, boring machinery, foundation construction equipment, foundation casings and related parts and sub-assemblies, tools and accessories for pile drivers, and stationary oil/gas drilling rigs and related subassemblies within Site 1 of FTZ 265. The current request would add foreign status materials/components to the scope of authority. Pursuant to 15 CFR 400.14(b), additional FTZ authority would be limited to the specific foreign-status materials/components described in the submitted notification (as described below) and subsequently authorized by the FTZ Board.

Production under FTZ procedures could exempt Bauer from customs duty payments on the foreign-status materials/components used in export production. On its domestic sales, Bauer would be able to choose the duty rates during customs entry procedures that apply to the company's finished products previously approved by the FTZ Board (duty rate ranges from duty-free to 5%) for the foreign-status materials/components noted below and in the existing scope of authority. Customs duties also could possibly be deferred or reduced on foreign-status production equipment.

The materials/components sourced from abroad include: V-belts (without textiles); V-belts (with textiles); steel structures for rigs; deadline anchors; filters for internal combustion engines; utility winches; hand winches; copper, iron and steel non-return check valves; safety/relief valves; blowout preventer stacks; tapered roller bearings; spherical roller bearings; cylindrical roller bearings; combined ball/roller bearings; combined ball and spherical roller bearings; combined ball and needle roller bearings; combined ball and cylindrical roller beatings; transformers with a capacity not exceeding 1KVA; telephones; CCTV systems; potentionmeters; fluorescent discharge lamps; optical fiber cables; and, hydraulic power units (duty rate ranges from duty-free to 6.6%).

Public comment is invited from interested parties. Submissions shall be addressed to the Board's Executive Secretary at the address below. The closing period for their receipt is April 17, 2017.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: March 2, 2017.
Andrew McGilvray,
Executive Secretary.

[FR Doc. 2017-04441 Filed 3-6-17; 8:45 am]

BILLING CODE 3510-DS-P